DEPARTMENT OF THE INTERIOR

Fish and Wildlife Service

50 CFR Part 18

RIN 1018-AH86

Florida Manatees; Incidental Take During Specified Activities; Proposed Rule: Notice of Public Hearings

AGENCY: Fish and Wildlife Service, Interior.

ACTION: Proposed rule; notice of public hearings.

SUMMARY: We, the Fish and Wildlife Service, give notice that we are holding an additional public hearing on the proposed rule to allow incidental take of Florida manatees under the Marine Mammal Protection Act. We invite all interested parties to submit comments on this proposal.

DATES: We will hold an additional public hearing from 6 to 9 p.m. on Thursday, December 12, 2002, in Fort Lauderdale, Florida (see item 7. under ADDRESSES). Previously announced hearings will be held from 6 to 9 p.m. on Monday December 2, 2002, in Fort Myers, Florida; Tuesday December 3, 2002, in Tampa, Florida; Wednesday December 4, 2002, in Melbourne, Florida; Thursday December 5, 2002, in Daytona Beach, Florida; Monday December 9, 2002, in Palatka, Florida; and Tuesday December 10, 2002, in Gainesville, Florida. The comment period will close on January 13, 2003. We will consider any comments received by the closing date in the final decision on this proposal.

ADDRESSES: We will hold the public hearings at the following locations:

1. Harborside Convention Hall, 13675 Monroe St., Ft. Myers, Florida

2. Holiday Inn, 4732 N. Dale Mabry Hwy., Tampa, Florida

3. Radisson Hotel & Conference Center, 3101 N. Highway A1A, Melbourne, Florida

4. Daytona Beach Resort & Conference Center, 2700 N. Atlantic Ave., Daytona Beach, Florida

5. Holiday Inn Conference Center, 201 North 1st St., Palatka, Florida

6. Doubletree University Florida Hotel & Conference Center, 1714 SW 34th St., Gainesville, Florida

7. Renaissance Hotel, 1617 SE 17th St (SR A1A), Fort Lauderdale, Florida

You may submit written comments and materials concerning the proposal at the hearings or send them directly to the Field Supervisor, U.S. Fish and Wildlife Service, North Florida Field Office, ATTN: Proposed MMPA Rule, 6620 Southpoint Drive, South, Suite 310, Jacksonville, Florida 32216. You may also hand-deliver written comments to our North Florida Field Office, at the above address, or fax your comments to 904/232-2404. Additionally, you may send comments by electronic mail (e-mail) to manatee@fws.gov.

Comments and materials received, as well as supporting documentation used in the preparation of this proposed rule, will be available for public inspection, by appointment, during normal business hours from 8:00 a.m. to 4:30 p.m., at the above address. You may obtain copies of the proposed rule and draft environmental impact statement from the above address or by calling 904/232-2580, or from our Web site at http://northflorida.fws.gov.

FOR FURTHER INFORMATION CONTACT: Peter Benjamin (see ADDRESSES section), telephone 904/232-2580; or visit our Web site at http://northflorida.fws.gov.

SUPPLEMENTARY INFORMATION: We published proposed regulations that would authorize for the next five years the incidental, unintentional take of small numbers of Florida manatees (Trichechus manatus latirostris) resulting from government activities related to watercraft and watercraft access facilities within three regions of Florida in the Federal Register on November 14, 2002 (67 FR 69078).

Under the provisions of the Marine Mammal Protection Act (MMPA), the Secretary of the Department of the Interior may authorize the incidental taking of small numbers of marine mammals in a specified geographic area if the Secretary finds, based on the best scientific evidence available, that the total taking for the authorized period will have no more than a negligible impact on the species or stock. If this finding is made, specific regulations will be established for the activities that describe permissible methods of taking; means of effecting the least practicable adverse impact on the species and its habitat; and requirements for monitoring and reporting. If the Secretary cannot make a finding that the total taking will have a negligible impact on the species or stock, the Secretary must publish the negative finding in the Federal Register along with the basis for such determination.

We have defined the specified geographic area for the proposed rule to be the species' range within the State of Florida. Long-term studies suggest four regional populations of manatees in Florida—Northwest, Upper St. Johns River (from Palatka south), Atlantic (including the St. Johns River north of Palatka), and Southwest. Through this rule, we have defined these populations as stocks. We proposed a finding that the total expected takings of Florida manatee resulting from government activities related to watercraft and watercraft access facilities would have a negligible impact in the Upper St. Johns River and Northwest stocks and a negligible impact with the implementation of additional mitigating measures on the Atlantic Stock. For the Southwest Stock, the best available information indicates that these activities would have more than a negligible impact on the Stock and, therefore, we did not propose to authorize incidental take for this Stock (i.e., a negative finding). We also announced the availability of a draft environmental impact statement for this action.

We announced the date, time and location of the public hearings in Fort Myers, Tampa, Melbourne, Daytona Beach, Palatka and Gainesville, FL with the notice of the proposed rule. We stated that additional public hearings would be held at dates, times, and sites to be determined. This notice provides information regarding the additional hearing in Fort Lauderdale, FL.

Public hearings are designed to gather relevant information that the public may have that we should consider in our rule-making. During the hearing, we will present information about the proposed action. We invite the public to submit information and comments either at the hearings or in writing.

We may limit the time allotted for oral statements, if the number of people who wish to comment necessitates such a limitation. We encourage persons wishing to comment at the hearings to provide a written copy of their statement at the start of the hearing. There is no limit on the length of written comments. Persons may also send written comments to our office in the ADDRESSES section at any time during the open comment period, which closes on January 13, 2002. We will give equal consideration to oral and written comments. We are publishing legal notices announcing the date, time, and location of the hearings in newspapers, concurrently with this Federal Register notice.

Persons needing reasonable accommodations in order to attend and participate in the public hearing should contact Chuck Underwood of the North Florida Field Office (see ADDRESSES section) as soon as possible. In order to allow sufficient time to process requests, please call no later than one week before the hearing.

Author

The primary author of this notice is Pete Benjamin (see ADDRESSES section).

Authority

The authority for this action is the Marine Mammal Protection Act of 1972, as amended (16 U.S.C. 1361-1407).

Dated: November 25, 2002.
Craig Manson,
Assistant Secretary for Fish and Wildlife and Parks.

[FR Doc. 02-30374 Filed 11-27-02; 8:45 am]

BILLING CODE 4310-55-P